DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology (NIST).

Title: Generic Clearance for Usability Data Collections.

OMB Control Number: 0693-0043.

Form Number(s): None.

Type of Request: Regular submission.

Burden Hours: 1,000.

Number of Respondents: 2,000.

Average Hours per Response: Response time may vary dependent upon the data collection method used. The response time will vary from 15 minutes to complete a questionnaire or up to three hours to participate in an empirical study. Average response time is expected to be 1 hour.

Needs and Uses: In accordance with Executive Order 12862, the NIST, a non-regulatory agency of the Department of Commerce, proposes to conduct a number of data collection efforts, both quantitative and qualitative, to determine requirements and evaluate usability and utility of NIST research for measurement and standardization work. These data collection efforts may include, but may not be limited to electronic methodologies, empharical studies, video and audio data collections, interviews, and questionnaires. For example, data collection efforts may be conducted at search and rescue training exercises for rescue workers using robots. Other planned data collections include evaluations of software for use by the intelligence community. The participation will be strictly voluntary; regulated information will not be collected. The results of the data collected will be used to guide NIST research. Steps will be taken to ensure anonymity of respondents in each activity covered under this request.

Affected Public: Individuals or households, State, Local or Tribal Government.

Frequency: On occasion.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-5167 or via the Internet at Jasmeet_K._Seehra@omb.eop.gov.

Dated: July 22, 2009.
Gwellnar Banks,
Management Analyst, Office of the Chief Information Officer.

[FR Doc. E9-17848 Filed 7-27-09; 8:45 am]

BILLING CODE 3510-13-P